NATIONAL COUNCIL ON DISABILITY

Cultural Diversity Advisory Committee Meetings (Teleconferences)

Times and Dates:September 21, 2005, 3 p.m. Eastern; November 4, 2005, 3 p.m. Eastern; March 2, 2006, 3 p.m. Eastern; June 1, 2006, 3 p.m. Eastern; September 7, 2006, 3 p.m. Eastern.

Place: National Council on Disability, 1331 F Street, NW., Suite 850, Washington, DC.

Agency: National Council on Disability (NCD).

Status: All parts of these meetings will be open to the public. Those interested in participating in these meetings should contact the appropriate staff member listed below. Due to limited resources, only a few telephone lines will be available for the call.

Agenda: Roll call, announcements, reports, new business, adjournment.

Contact Person for More Information: Geraldine (Gerrie) Drake Hawkins, Ph.D., Program Analyst, NCD, 1331 F Street, NW., Suite 850, Washington, DC 20004; 202-272-2004 (voice), 202-272-2074 (TTY), 202-272-2022 (fax), ghawkins@ncd.gov.

Cultural Diversity Advisory Committee Mission: The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

Dated: August 17, 2005.
Ethel D. Briggs,
Executive Director.

[FR Doc. 05-19067 Filed 9-22-05; 8:45 am]

BILLING CODE 6820-MA-P